DEPARTMENT OF HEALTH AND HUMAN SERVICES

National Advisory Committee on Children and Disasters Public Teleconference

AGENCY: Office of the Assistant Secretary for Preparedness and Response (ASPR), Department of Health and Human Services (HHS).

ACTION: Notice.

SUMMARY: As stipulated by the Federal Advisory Committee Act, the Department of Health and Human Services is hereby giving notice that the National Advisory Committee on Children and Disasters (NACCD) will hold a public teleconference on September 11, 2018.

DATES: The NACCD Public Teleconference is September 11, 2018, from 2:00 p.m. to 3:00 p.m. Eastern Daylight Time (EDT).

ADDRESSES: We encourage members of the public to attend the public meetings. To register, send an email to naccd@hhs.gov with “NACCD Registration” in the subject line. Submit your comments to naccd@hhs.gov or via the NACCD Contact Form located at https://www.phe.gov/Preparedness/legal/boards/naccd/Pages/contact.aspx. For additional information, visit the NACCD website located at https://www.phe.gov/naccd.

SUPPLEMENTARY INFORMATION: Pursuant to the Federal Advisory Committee Act of 1972 (5 U.S.C., Appendix, as amended), and Section 2811A of the Public Health Service (PHS) Act (42 U.S.C. 300hh-10a), as added by Section 103 of the Pandemic and All-Hazards Preparedness Reauthorization Act of 2013 (Pub. L. 113-5), the HHS Secretary, in consultation with the Secretary of the U.S. Department of Homeland Security, established the NACCD. The purpose of the NACCD is to provide advice and consultation to the HHS Secretary with respect to the medical and public health needs of children in relation to disasters.

Background: The September 11, 2018, public teleconference of the NACCD is dedicated to the presentation, deliberation, and vote on the Pediatric Disaster Training Work Group (PDTWG) and Identifying Metrics of Baseline Vulnerability (IMBV) reports. Established under the NACCD in 2017, the PDTWG met several times over the past year to evaluate progress since the 2011 National Center for Disaster Medicine and Public Health consensus report and to develop recommendations to further improve pediatric training to ensure the safety and health of children in disasters. Separately, in 2018, the ASPR identified metrics of baseline community vulnerability as a topic he would like the NACCD to address and provide recommendations. On June 28, 2018, the NACCD met publically and in-person to develop metrics via a facilitated discussion. Takeaways from this discussion served as the basis for the IMBV report. We will post modifications to the agenda on the NACCD meeting website, which is located at https://www.phe.gov/naccd.

Availability of Materials: We will post all teleconference materials prior to the teleconference on September 11, 2018, at the website located at https://www.phe.gov/naccd.

Procedures for Providing Public Input: Members of the public may attend the public teleconference via a toll-free call-in phone number, which is available on the NACCD website at https://www.phe.gov/naccd.

We encourage members of the public to provide written comments that are relevant to the NACCD public teleconference prior to September 11, 2018. Send written comments by email to naccd@hhs.gov with “NACCD Public Comment” in the subject line. The NACCD Chair will respond to comments received by September 10, 2018, during the public teleconference.

Dated: August 13, 2018.
Robert P. Kadlec,
Assistant Secretary for Preparedness and Response.

[FR Doc. 2018-17901 Filed 8-17-18; 8:45 am]

BILLING CODE 4150-28-P